DEPARTMENT OF THE INTERIOR

National Park Service

Notice of Extension of Comment Period for Draft National Park Service Management Policies

AGENCY: National Park Service, Interior.

ACTION: Notice of extension of comment period.

SUMMARY: The National Park Service (NPS) is proposing to update the policies that guide the management of the National Park System. Original notice of availability of the draft updated “Management Policies” was published in the Federal Register on October 19, 2005 [70 FR 60852, October 19, 2005]. That notice stated that comments would be accepted through January 19, 2006. This notice extends the comment period an additional 30 days, through February 18, 2006.

DATES: Written comments will be accepted until February 18, 2006.

ADDRESSES: The draft “Management Policies” document is available on the Internet at http://parkplanning.nps.gov/waso. Hard copies may be reviewed in the Department of the Interior library (at the C Street entrance of the Main Interior Building, Washington, DC); at NPS regional offices in Philadelphia, PA; Oakland, CA; Washington, DC; Atlanta, GA; Denver, CO; Omaha, NE; and Anchorage, AK; and at most units of the National Park System around the country. A limited number of single hard copies of the draft may be obtained by calling 202-208-7456. Comments can be submitted in the following ways:

1. Via the Web page at http://parkplanning.nps.gov/waso. This is the preferred way.

2. Via e-mail to waso_policy@nps.gov. Or,

3. Via surface mail to Bernard Fagan, National Park Service, Office of Policy, Room 7252, Main Interior Building, 1849 C Street, NW., Washington, DC 20240.

FOR FURTHER INFORMATION CONTACT: Bernard Fagan at (202) 208-7456, or via e-mail at waso_policy@nps.gov.

SUPPLEMENTARY INFORMATION: The policies that guide the management of the National Park System are compiled in a book called “Management Policies,” last published in 2001. Park superintendents, planners, and other NPS employees use “Management Policies” as a reference source when making decisions that will affect units of the National Park System. The NPS has completed a comprehensive revision of the book and is now providing an additional 30 days for public review and comment on the draft. All those who are concerned about the future of the National Park System are urged to read the draft in its entirety and offer ideas on how it can be improved.

All comments will be reviewed and appropriate suggestions will be incorporated into the revised final version of “Management Policies.” The final document will be available for public review via the Internet and in printed form. A notice of availability of the final document, and an explanation of how comments were addressed, will appear in the Federal Register.

Dated: November 9, 2005.
Loran G. Fraser,
Chief, Office of Policy, National Park Service.

[FR Doc. E5-6616 Filed 11-28-05; 8:45 am]

BILLING CODE 4310-52-P